INTERNATIONAL TRADE COMMISSION

[Investigation No. 337-TA-1015]

Certain Hand Dryers and Housings for Hand Dryers: Institution of Investigation

AGENCY: U.S. International Trade Commission.

ACTION: Notice.

SUMMARY: Notice is hereby given that a complaint was filed with the U.S. International Trade Commission on June 24, 2016, under section 337 of the Tariff Act of 1930, as amended, 19 U.S.C. 1337, on behalf of Excel Dryer, Inc. of East Longmeadow, Massachusetts. A supplement to the complaint was filed on July 14, 2016. The complaint alleges violations of section 337 based upon the importation into the United States, or in the sale of certain hand dryers and housings for hand dryers by reason of trade dress infringement, the threat or effect of which is to destroy or substantially injure an industry in the United States.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

SUPPLEMENTARY INFORMATION: Authority: The authority for institution of this investigation is contained in section 337 of the Tariff Act of 1930, as amended, and in section 210.10 of the Commission's Rules of Practice and Procedure, 19 CFR 210.10 (2016).

Scope of Investigation: Having considered the complaint, the U.S. International Trade Commission, on July 26, 2016, ORDERED THAT —

(1) Pursuant to subsection (b) of section 337 of the Tariff Act of 1930, as amended, an investigation be instituted to determine whether there is a violation of subsection (a)(1)(A) of section 337 in the importation into the United States, or in the sale of certain hand dryers and housings for hand dryers by reason of trade dress infringement, the threat or effect of which is to destroy or substantially injure an industry in the United States;

(2) For the purpose of the investigation so instituted, the following are hereby named as parties upon which this notice of investigation shall be served:

(a) The complainant is:

Excel Dryer, Inc., 357 Chestnut Street, East Longmeadow, MA 01028

(b) The respondents are the following entities alleged to be in violation of section 337, and are the parties upon which the complaint is to be served:

ACL Group (Intl.) Ltd., Hill Farm, Sleep Hill Lane, Skelbrooke, Doncaster DN6 8LZ, United Kingdom

Alpine Industries Inc., 27 Selvage Street, Irvington, New Jersey 07111

FactoryDirectSale, 3900 E. Philadelphia Street, Ontario, CA 91761

Fujian Oryth Industrial Co., Ltd., (a/k/a Oryth), No.863 Xiahe Road, Siming District, Xiamen, Fujian, 361006, China

Jinhua Kingwe Electrical Co. Ltd., (a/k/a Kingwe), No. 1600, West Wujiang Road, Jinhua City, Zhejiang Province, 321018, China

Penson & Co., Room 1011, N 218 Hengfeng Road, Zhabei District, Shanghai, China

Taizhou Dihour Electrical Appliances Co., Ltd., a/k/a Dihour, North Dashi Class I Highway, Daxi Town, Wenling City, ZheJiang Province 317525, China

TC Bunny Co., Ltd., Room 201, Building 418, Madang Road, Shanghai, China

Toolsempire, 3900 E. Philadelphia Street, Ontario, CA 91761

US Air Hand Dryer, c/o Kristen Nguyen, 9221 Rose Parade Way, Sacramento, CA 95826

Sovereign Industrial (Jiaxing) Co. Ltd., d/b/a Vinovo, No. 111 Xiuxin Road, Xiuzhou Industrial Park, Jiaxing Zhejiang Jiaxing 314000, China

Zhejiang Aike Appliance Co., Ltd., Yong'an Industry Park, Xianju, Taizhou, Zhejiang, China

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 26, 2016.
Lisa R. Barton,
Secretary to the Commission.

[FR Doc. 2016-18073 Filed 7-29-16; 8:45 am]

BILLING CODE 7020-02-P